DEPARTMENT OF STATE

[Public Notice 4284]

Bureau of Educational and Cultural Affairs Request for Grant Proposals: Partners in Education Program

AGENCY: Department of State.

ACTION: Notice.

SUMMARY: The Office of Global Educational Programs of the Bureau of Educational and Cultural Affairs announces an open competition for the Partners in Education (PiE) Program. The goal of PiE is for Eurasian educators to learn about secondary-level citizenship education, curriculum development, and teaching methodologies in the U.S., and to establish professional partnerships with U.S. teachers and teacher-trainers in schools, universities, and communities.

Public and private non-profit organizations meeting the provisions described in Internal Revenue Code section 26 USC 501(c)(3) may submit proposals to administer this citizenship education project, which includes the following four components: A U.S.-based six-week professional internship program for approximately 56 English-language proficient, secondary school teachers, administrators, and teacher trainers from Armenia, Azerbaijan, Georgia, Kyrgyzstan, Ukraine and Uzbekistan; a two-week in-country workshop in each region, taught by Eurasian participants from the initial U.S.-based component for approximately 160 non-English-speaking social science educators; a two-week exchange for approximately 16 U.S. educators who hosted the Eurasians during their stay in the United States to travel to the Eurasian visitors' schools; and a three-week program for approximately 27 non-English-speaking Eurasian school directors. Please refer to the accompanying POGI for an exact breakdown of participant numbers. Proposals relating to the teaching of English or English as a foreign language (EFL) are not eligible.

Recruitment for the U.S.-based cycles should begin in fall 2003. The grantee organization will be expected to recruit in the Eurasian countries listed above in consultation with the Bureau of Educational and Cultural Affairs and the Public Affairs Sections within U.S. embassies in these Eurasian countries. Selection of Eurasian participants for all components will be merit-based with a fair representation of large and small “oblasts.”

The program should encourage participants to establish contacts in the U.S. that will foster ongoing school and community partnerships upon their return to Eurasia. It is intended to promote democratic relations in Eurasian schools, including parental involvement, and build upon the Bureau's existing linkages with Eurasian secondary schools. (Specific school information is not needed for purposes of the proposal.) Proposals should address benefits and impact of the various program components on the participants as well as the U.S. and Eurasian schools.

Program Information

U.S.-Based Educator Internship

The grantee organization should coordinate a six-week U.S.-based program for English-speaking teachers of social studies, American studies or civic education, and administrators of secondary schools, professors or instructors at teacher training institutes, or other education professionals actively involved in citizenship education. After an academically-focused orientation in Washington, DC, Eurasian participants will be placed in small groups in school districts in the U.S. and provided with internships at local high schools to experience U.S. educational communities and related democratic institutions. Internships must include individual partnering with mentor teachers to observe social science classrooms, as well as confer and teach collaboratively with mentors. In addition, activities should include participation in at least five days of professional development (especially Training of Trainer seminars) designed by the host schools or by local/regional schools of education; working with a civic education consultant to develop an in-country workshop (detailed below) for non-English speaking colleagues; learning about citizenship education curriculum development, and computer-based and other teaching methods; delivering presentations to students and faculty at host schools and communities on Eurasian educational systems and cultures; gathering teaching materials for use in their home schools.

Participants should gain an understanding of the U.S. educational system and local control of education, as well as the relationship between the community and the educational system. The participants should visit various types of schools whenever possible (private, rural, inner city, Native American, charter, etc.), deliver presentations at those schools as well as to local civic and community groups, and attend Parent Teacher Association, school board, city council or other local governance meetings.

During the internship component, the Eurasian educators should practice their knowledge of curriculum development by creating a citizenship education lesson plan or curriculum plan applicable to their home country context. They should be given an opportunity to present their plan to their colleagues at a debriefing workshop in Washington, DC at the end of the U.S. program.

The grantee organization should solicit U.S. host proposals from schools, school-university partnerships, or private-sector institutions that are academically oriented and foster long-term linkages between U.S. high schools and comparable schools in the Eurasian countries involved. Where possible, U.S. host proposals should include institutions that have successfully participated in other secondary-level Eurasia programs.

Eurasia Workshops

The proposal should describe the implementation of a Eurasia-based component in which each regional group of educators who comes to the U.S.: (1) Develops, tests, and evaluates their new lesson plans and other citizenship education materials in their home schools; and (2) assisted by the civic education consultant, prepares an intensive workshop (one session lasting two weeks or two sessions lasting one week each) for up to 20 non-English speaking history/social studies/civics teachers in their home region. The proposal should include a plan for recruitment of participants for these workshops. Candidates for the workshops must agree to implement the citizenship education lessons or other projects resulting from the workshops.

U.S. Educator Exchange

The grantee organization will also be responsible for facilitating the reciprocal exchange of secondary-level U.S. teachers, preferably two mentor teachers from each U.S. host site in the Eurasian educator internship. The U.S. educators will travel to the community(ies) of the Eurasian teachers, and will take part in a substantive two-week program to be designed by the Eurasian participants in collaboration with the grantee organization, to strengthen the partnerships established during the U.S.-based program and implement linkage activities between the U.S. and Eurasian educational communities. This component should not conflict with the in-country workshops.

School Directors Program

The school directors program should include non-English-speaking directors from Armenia, Azerbaijan, Georgia, Kyrgyzstan, Ukraine and Uzbekistan who will participate in a U.S.-based intensive three-week program that integrates the core citizenship education and social science curriculum presented to the PiE teachers, as well as specific seminars and workshops on participatory learning and community-based school governance. The school directors' program may begin at the same time as the U.S.-based educator internship program, or may be conducted separately, but in any case should include a Washington-based orientation. To maximize impact, the school directors should be recruited from Eurasian schools that have participated or are about to participate in the PiE teacher/administrator program. The grantee organization will be provided that information.

The grantee should develop a comprehensive, academically oriented program that will engage the Eurasian school directors in democratic school reform issues and community-school relations, as well as exposing them to teaching methodologies for citizenship education and the social sciences. The school directors should travel in one or more groups and should be provided with appropriate interpretation; the grantee organization must show sensitivity to linguistic and ethnic issues involved. The Bureau will consider a school director component that exposes the participants to up to two U.S. communities or school districts during the three-week program. There is no Eurasia-based program for U.S. hosts of the Eurasian school directors component of the PiE program.

Guidelines

The grant should begin on or around July 1, 2003, and the grantee should complete all exchange activities by December, 2005. The grantee organization will be responsible for activities related to recruitment, screening, orientation coordination, monitoring in the U.S., program evaluation, and alumni activities. The grantee organization will also be responsible for the competitive recruitment of U.S. host school districts for participation in the PiE teacher/administrator program, as well as sites for the school director program. The grantee organization will maintain general oversight for the program, under the direction of ECA. Please refer to additional program specific guidelines in the Project Objectives, Goals, and Implementation (POGI) document.

Programs must comply with J-1 visa regulations. Please refer to Solicitation Package for further information.

Budget Guidelines

The Bureau anticipates awarding one grant in the amount of $1,450,000 under this grant competition. Bureau grant guidelines require that organizations with less than four years of experience in conducting international exchange programs be limited to $60,000 in Bureau funding. Therefore, organizations that cannot demonstrate at least four years experience in conducting international exchanges are ineligible to apply under this competition. The Bureau encourages applicants to provide maximum levels of cost-sharing and funding from private sources in support of its programs.

Applicants must submit a comprehensive budget for the entire program. There must be a summary budget as well as breakdowns reflecting both administrative and program budgets. Applicants should provide separate sub-budgets for each program component, phase, location, or activity to provide clarification, but should include an overall per participant program and administrative cost. The Bureau will look favorably upon proposals with modest administrative costs.

Announcement Title and Number: All correspondence with the Bureau concerning this RFGP should reference the above title and number ECA/A/S/X-03-03.

FOR FURTHER INFORMATION CONTACT: The Office of Global Educational Programs, Fulbright Teacher Exchange Branch, ECA/A/S/X, Room 349, U.S. Department of State, S.A. 44, 301 4th Street, SW., Washington, DC 20547, tel. 202-619-4556 and fax 202-401-1433, rwaldste@pd.state.gov to request a Solicitation Package. The Solicitation Package contains detailed award criteria, required application forms, specific budget instructions, and standard guidelines for proposal preparation. Please specify Bureau Program Officer Rachel Waldstein on all other inquiries and correspondence.

Please read the complete Federal Register announcement before sending inquiries or submitting proposals. Once the RFGP deadline has passed, Bureau staff may not discuss this competition with applicants until the proposal review process has been completed.

To Download a Solicitation Package via Internet: The entire Solicitation Package may be downloaded from the Bureau's Web site at http://exchanges.state.gov/education/RFGPs. Please read all information before downloading.

Deadline for Proposals: All proposal copies must be received at the Bureau of Educational and Cultural Affairs by 5 p.m. Washington, DC time on Monday, April 14, 2003. Faxed documents will not be accepted at any time. Documents postmarked the due date but received on a later date will not be accepted. Each applicant must ensure that the proposals are received by the above deadline.

Applicants must follow all instructions in the Solicitation Package. The original and eight copies of the application should be sent to: U.S. Department of State, SA-44, Bureau of Educational and Cultural Affairs, Ref.: ECA/A/S/X-03-03, Program Management, ECA/EX/PM, Room 534, 301 4th Street, SW., Washington, DC 20547.

Applicants must also submit the “Executive Summary” and “Proposal Narrative” sections of the proposal on a 3.5” diskette, formatted for DOS. These documents must be provided in ASCII text (DOS) format with a maximum line length of 65 characters. The Bureau will transmit these files electronically to the Public Affairs section at the U.S. Embassy for its review, with the goal of reducing the time it takes to get embassy comments for the Bureau's grants review process.

Diversity, Freedom and Democracy Guidelines

Pursuant to the Bureau's authorizing legislation, programs must maintain a non-political character and should be balanced and representative of the diversity of American political, social, and cultural life. “Diversity” should be interpreted in the broadest sense and encompass differences including, but not limited to ethnicity, race, gender, religion, geographic location, socio-economic status, and physical challenges. Applicants are strongly encouraged to adhere to the advancement of this principle both in program administration and in program content. Please refer to the review criteria under the 'Support for Diversity' section for specific suggestions on incorporating diversity into the total proposal. Public Law 104-319 provides that “in carrying out programs of educational and cultural exchange in countries whose people do not fully enjoy freedom and democracy,” the Bureau “shall take appropriate steps to provide opportunities for participation in such programs to human rights and democracy leaders of such countries.” Public Law 106—113 requires that the governments of the countries described above do not have inappropriate influence in the selection process. Proposals should reflect advancement of these goals in their program contents, to the full extent deemed feasible.

Adherence to All Regulations Governing the J Visa

The Bureau of Educational and Cultural Affairs is placing renewed emphasis on the secure and proper administration of Exchange Visitor (J visa) Programs and adherence by grantees and sponsors to all regulations governing the J visa. Therefore, proposals should demonstrate the applicant's capacity to meet all requirements governing the administration of Exchange Visitor Programs as set forth in 22 CFR 6Z, including the oversight of Responsible Officers and Alternate Responsible Officers, screening and selection of program participants, provision of pre-arrival information and orientation to participants, monitoring of participants, proper maintenance and security of forms, record-keeping, reporting and other requirements. The Grantee organization will be responsible for issuing DS-2019 forms to participants in this program.

A copy of the complete regulations governing the administration of Exchange Visitor (J) programs is available at http://exchanges.state.gov or from: United States Department of State, Office of Exchange Coordination and Designation, ECA/EC/ECD—SA-44, Room 734, 301 4th Street, SW., Washington, DC 20547. Telephone: (202) 401-9810. FAX: (202) 401-9809.

Review Process

The Bureau will acknowledge receipt of all proposals and will review them for technical eligibility. Proposals will be deemed ineligible if they do not fully adhere to the guidelines stated herein and in the Solicitation Package. All eligible proposals will be reviewed by the program office, as well as the Public Diplomacy section overseas, where appropriate. Eligible proposals will be subject to compliance with Federal and Bureau regulations and guidelines and forwarded to Bureau grant panels for advisory review. Proposals may also be reviewed by the Office of the Legal Adviser or by other Department elements. Final funding decisions are at the discretion of the Department of State's Assistant Secretary for Educational and Cultural Affairs. Final technical authority for assistance awards or cooperative agreements resides with the Bureau's Grants Officer.

Review Criteria

Technically eligible applications will be competitively reviewed according to the criteria stated below. These criteria are not rank ordered and all carry equal weight in the proposal evaluation:

1. Quality of the program idea: Proposals should exhibit originality, innovation, substance, precision, and relevance to the Bureau's mission of promoting civic education, leadership and democratic development of schools in Eurasia.

2. Program planning/Ability to achieve program objectives: Detailed agenda and relevant work plan should demonstrate substantive undertakings and logistical capacity. Agenda and plan should adhere to the program overview and guidelines described above. Objectives should be reasonable, feasible, and flexible. Proposals should clearly demonstrate how the institution will meet the program's objectives and plan.

3. Multiplier effect/impact: Proposed programs should strengthen long-term mutual understanding, including maximum sharing of information and establishment of long-term institutional and individual linkages.

4. Support of Diversity: Proposals should demonstrate substantive support of the Bureau's policy on diversity. Achievable and relevant features should be cited in both program administration (selection of participants, program venue and program evaluation) and program content (orientation and wrap-up sessions, program meetings, resource materials and follow-up activities).

5. Follow-on Activities: Proposals should provide a plan for continued follow-on activity (without Bureau support) ensuring that Bureau supported programs are not isolated events.

6. Project Evaluation: Proposals should include a plan to evaluate the activity's success, both as the activities unfold and at the end of the program. A draft survey questionnaire or other technique plus description of a methodology to use to link outcomes to original project objectives is recommended. Successful applicants will be expected to submit intermediate reports after each project component is concluded or quarterly, whichever is less frequent.

7. Cost-effectiveness and cost/sharing: The overhead and administrative components of the proposal, including salaries and honoraria, should be kept as low as possible. All other items should be necessary and appropriate. Proposals should maximize cost-sharing through other private sector support as well as institutional direct funding contributions.

8. Institutional Capacity and Record: Proposed personnel and institutional resources should be adequate and appropriate to achieve the program or project's goals. Proposals should demonstrate an institutional record of successful exchange programs in general and in the Eurasia region, including responsible fiscal management and full compliance with all reporting requirements for past Bureau grants as determined by Bureau Grant Staff. The Bureau will consider the past performance of prior recipients and the demonstrated potential of new applicants.

Authority

Overall grant making authority for this program is contained in the Mutual Educational and Cultural Exchange Act of 1961, Public Law 87-256, as amended, also known as the Fulbright-Hays Act. The purpose of the Act is “to enable the Government of the United States to increase mutual understanding between the people of the United States and the people of other countries . . .; to strengthen the ties which unite us with other nations by demonstrating the educational and cultural interests, developments, and achievements of the people of the United States and other nations . . . and thus to assist in the development of friendly, sympathetic and peaceful relations between the United States and the other countries of the world.” The funding authority for the program above is provided through legislation. The funding authority for the program above is provided through the Freedom for Russia and Emerging Eurasian Democracies and Open Markets Support Act of 1993 (FREEDOM Support Act).

Notice

The terms and conditions published in this RFGP are binding and may not be modified by any Bureau representative. Explanatory information provided by the Bureau that contradicts published language will not be binding. Issuance of the RFGP does not constitute an award commitment on the part of the government. The Bureau reserves the right to reduce, revise, or increase proposal budgets in accordance with the needs of the program and the availability of funds. Awards made will be subject to periodic reporting and evaluation requirements.

Notification

Final awards cannot be made until funds have been appropriated by Congress, allocated and committed through internal Bureau procedures.

Dated: February 14, 2003.
Patricia S. Harrison,
Assistant Secretary for Educational and Cultural Affairs, Department of State.

[FR Doc. 03-4306 Filed 2-21-03; 8:45 am]

BILLING CODE 4710-05-P